DEPARTMENT OF TRANSPORTATION

Office of the Secretary

Notice of Applications for Certificates of Public Convenience and Necessity and Foreign Air Carrier Permits Filed Under Subpart B (Formerly Subpart Q) During the Week Ending September 7, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-29209.

Date Filed: September 7, 2007.

Due Date for Answers, Conforming Applications, or Motion to Modify Scope: September 28, 2007.

Description: Application of “Sakhalinskie Aviatrassy” Airlines, requesting a foreign air carrier permit to engage in scheduled transportation of passengers, cargo, property and mail between the points of Vladivostok, Yuzhno-Sakhalinsk, Petropavlovsk-Kamchatsky and Anadyr in the Russian Federation-via intermediate points, and the point of Anchorage in the United States; as well as in charter passenger, combination and all-cargo air transportation operations.

Renee V. Wright,
Program Manager, Docket Operations, Federal Register Liaison.

[FR Doc. E7-18709 Filed 9-20-07; 8:45 am]

BILLING CODE 4910-9X-P